DEPARTMENT OF TRANSPORTATION

Federal Aviation Administration

RTCA Federal Advisory Committee

AGENCY: Federal Aviation Administration (FAA), DOT.

ACTION: Notice of RTCA Charter renewal.

SUMMARY: The FAA is issuing this notice to advise the public of the renewal of the RTCA Charter (FAA Order 1110.77V) for two years, effective April 1, 2015. The administrator is the sponsor of the committee. The FAA and seven other government agencies use RTCA as a federal advisory committee. On January 2, 1976, the FAA, the major government user of RTCA products, assumed sponsorship on behalf of all government agencies. RTCA brings together representatives of the government and industry to form special committees and steering committees to provide advice and recommendations on key operational and technological issues that impact the Next Generation Air Transportation System (NextGen) implementation and the Air Traffic Management System. The Secretary of Transportation has determined that that information and use of committee are necessary in the public interest in connection with the performance of duties imposed on the FAA by law.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Steering Committee and Special Committee meetings are open to the public and announced in the Federal Register, except as authorized by Section 10(d) of the Federal Advisory Committee Act.

Issued in Washington, DC, on April 1, 2015.
Mohannad Dawoud,
Management Analyst, Program Oversight and Administration, ANG-A15, Federal Aviation Administration.

[FR Doc. 2015-07854 Filed 4-3-15; 8:45 am]

BILLING CODE 4910-13-P